DEPARTMENT OF DEFENSE

Department of the Navy

Notice of Intent To Prepare a Legislative Environmental Impact Statement for the Proposed Extension of the Chocolate Mountain Aerial Gunnery Range Land Withdrawal

Lead Agency: Department of the Navy, DoD.

Cooperating Agency: Bureau of Land Management, Department of the Interior.

ACTION: Notice.

SUMMARY: Pursuant to Section 102(2)(c) of the National Environmental Policy Act (NEPA) of 1969 and regulations implemented by the Council on Environmental Quality (40 Code of Federal Regulations [CFR] Parts 1500-1508), the Department of the Navy (DoN) and the United States Marine Corps (USMC), with the cooperation of the Bureau of Land Management (BLM), intends to prepare a Legislative Environmental Impact Statement (L-EIS) and conduct public scoping meetings for the proposed extension of the withdrawal of approximately 226,711 acres of public land in Imperial and Riverside counties, California, for continued military use of the Chocolate Mountain Aerial Gunnery Range (CMAGR).

The California Military Lands Withdrawal and Overflights Act of 1994 (Pub. L. 103-433) withdrew 226,711 acres of public land to DoN, reserving these lands for defense-related purposes for a period of 20 years (until October 31, 2014). The Act provides that the DoN may seek extension of the CMAGR withdrawal. As part of the withdrawal process, the Secretary of the Navy is required to publish a Draft L-EIS addressing legislative alternatives and the effects of continued withdrawal. The CMAGR Draft L-EIS will evaluate the environmental effects of the proposal to extend the land withdrawal for an additional 25 years (through 2039) and will evaluate alternative actions to restructure the existing range boundary for improved efficiency in the management of the CMAGR and adjacent lands.

DATES AND ADDRESSES: DoN is initiating a 90-day public scoping process to identify community interests and specific issues to be addressed in the L-EIS, which starts with the publication of this Notice of Intent (NOI). Four public scoping meetings have been scheduled to enlist written and oral comments regarding the scope of the Draft L-EIS analysis:

1. Monday, December 6, 2010, 5:30 p.m. to 8 p.m., Yuma County Library, Rooms B-C, 2951 S. 21st Drive, Yuma, Arizona 85364;

2. Tuesday, December 7, 2010, 5:30 p.m. to 8 p.m., Holiday Inn Express—El Centro, Conference Room B, 350 Smoketree Drive, El Centro, California 92243;

3. Wednesday, December 8, 2010, 5:30 p.m. to 8 p.m., Holiday Inn, 1800 E. Palm Canyon, Palm Springs, California 92264; and

4. Thursday, December 9, 2010, 5:30 p.m. to 8 p.m., San Diego Planning Commission Hearing Room, 5201 Ruffin Road, Suite B, San Diego, California 92123.

FOR FURTHER INFORMATION CONTACT: CMAGR L-EIS Project Manager (Attn: Kelly Finn), NAVFAC Southwest, 1220 Pacific Highway, San Diego, CA 92132-5190; phone 619-532-4452. Additional supplementary information regarding the CMAGR Draft L-EIS is available at http://www.chocolatemountainrenewal.com. Please submit requests for special assistance, sign language interpretation for the hearing impaired, or other auxiliary aids needed at the scoping meeting to the L-EIS Project Manager by November 26, 2010.

SUPPLEMENTARY INFORMATION: Public scoping meeting schedules and locations will also be published in local newspapers. The public is invited to attend these meetings to view project-related displays, speak with DoN and USMC representatives, and submit public comment forms at information stations. A court reporter will be available at the meetings to accept oral comments. The scoping meetings will be conducted in an informal, open house style meeting format. All comments regarding the scope of issues that should be considered in the Draft L-EIS must be received within 90 days of the publication date of this notice to ensure full consideration in the Draft L-EIS analysis.

Submitting Comments: Federal, state, and local agencies and interested parties are encouraged to provide oral and/or written comments regarding the scope of the L-EIS, reasonable alternatives and/or specific issues or topics of interest to the public. Comments may be submitted by: (1) Attending one of the public scoping open houses and providing oral or written comments, (2) submitting a comment form on the project's public website at http://www.chocolatemountainrenewal.com, or (3) mail. Written comments should be submitted to the L-EIS Project Manager listed below under FOR FURTHER INFORMATION CONTACT. All written comments on the scope of the L-EIS should be submitted and/or postmarked no later than December 23, 2010.

The USMC will consider all comments received during the scoping period. A mailing list has been assembled to facilitate preparation of the L-EIS. Those on this list will receive notices and information related to L-EIS preparation. This list includes local, state, and federal agencies with jurisdiction or other interests in the alternatives. In addition, the mailing list includes affected municipalities and other interested parties. Anyone wishing to be added to the mailing list may request to be added by contacting the L-EIS project manager at the address provided below.

Before including your address, telephone number, email address, or other personal identifying information in your comment, please be aware that your entire comment—including any personal identifying information—may be made publicly available at any time. Although requests can be made to withhold personal identifying information from public review, it may not be possible to keep this information from disclosure.

The CMAGR has served as an aerial bombing and gunnery training range since the 1940s. The CMAGR currently provides more than 700 square miles (459,000 acres) of land, and overlying and adjacent special-use airspace that extends laterally for several thousands of square miles that, among other activities, supports training in air combat maneuvering and tactics; close air support (where air-to-ground ordnance is fired to directly support friendly forces engaged in ground combat); airborne laser system operations; air-to-air gunnery; and air-to-ground bombing, rocketry, and strafing. Artillery, demolitions, small arms, and Navy Special Warfare training are also conducted within the range. The CMAGR is a centerpiece in a much larger training complex that incorporates adjacent and nearby special use airspaces and ranges to support full-spectrum combat operations so that Marines can realistically train as they will fight.

Purpose and Need: The purpose of and need for the proposed CMAGR renewal is for the DoN to retain a military aircrew training range for near- and long-term preparedness of United States tactical air forces. Extending the land withdrawal will provide for the continued effective implementation of ongoing aircrew training while maintaining the flexibility to adapt to the training needs of new technologies as they develop. The performance of air operations in combat is directly related to the quality and depth of training. The CMAGR provides a unique combination of attributes that serve this training requirement, including the favorable location and flying weather; sufficient land and airspace; diverse terrain; and developed training support facilities.

The CMAGR consists of approximately 459,000 acres of desert mountain terrain in Imperial and Riverside counties, California. The land jurisdiction map of the CMAGR closely resembles a checkerboard where every other section (640 acres or 1 square mile) is managed by either the DoN or the Bureau of Land Management (BLM). The DoN owns 232,116 acres of the checkerboard, while the alternate sections of the range (226,711 acres) are made up of withdrawn lands managed by the BLM.

Since the CMAGR comprises DoN-owned and BLM-managed public lands, environmental stewardship for the CMAGR is implemented through the Sikes Act for DoN land and the Federal Land Policy and Management Act for BLM land. Because the management goals and procedures of these acts differ, two separate regulatory schemes are required to administer the checkerboard land jurisdiction pattern of the range. Currently, DoN has full administrative jurisdiction to manage military training and resource management on DoN-owned lands within the CMAGR, and the BLM is responsible for resource management on the alternating sections of public lands withdrawn and reserved for DoN use.

Preliminary Alternatives: A range of alternatives, including the no-action alternative required by NEPA, will be considered. The L-EIS will also consider other reasonable alternatives that are identified during scoping or the preparation of the L-EIS. Four preliminary action alternatives have been identified. Alternatives 2, 3 and 4 would include restructuring the CMAGR boundaries to more closely follow certain prominent geographic features, such as aligning part of the CMAGR boundary to closely parallel but no longer cross features such as the Bradshaw Trail and Coachella Canal.

1. Alternative 1 would extend the current withdrawal with no boundary or jurisdictional changes, for a period of 25 years.

2. Alternative 2 would extend the land withdrawal for a period of 25 years with restructured boundaries and would allocate full administrative jurisdiction for resource management to DoN, in addition to the military activities.

3. Alternative 3 would extend the land withdrawal for a period of 25 years and transfer all custody and accountability for the real property within both the current withdrawal and the restructured boundaries from BLM to DoN. All responsibility for resource management and use of the lands would then reside with DoN.

4. Alternative 4 would extend the land withdrawal for a period of 25 years with the restructured boundaries; management of the military activities would remain with DoN and the resource management would remain with BLM.

5. Under Alternative 5, the No Action Alternative, the existing land withdrawal for the CMAGR, provided by the California Military Lands Withdrawal and Overflights Act of 1994, would expire. The capability to support existing and future training activities at the CMAGR that rely on these lands would cease. No alternative range is located in the operational region that has the weapons training capacity of the CMAGR. Consequently, aircrew and other training terminated at the CMAGR by the No Action Alternative would have to be relocated to ranges elsewhere in the country or curtailed. Range clean-up operations at CMAGR would be required.

Environmental Issues and Resources To Be Examined: The Draft L-EIS will evaluate the potential environmental effects associated with each of the above alternatives and any additional alternatives developed during the scoping period. Issues to be addressed include, but are not limited to, biological resources, cultural resources, geology and soils, hydrology, noise, air quality, safety, hazardous materials and waste, socioeconomics and environmental justice. Relevant and reasonable measures that would avoid or mitigate environmental effects will also be analyzed. Additionally, the USMC will undertake any consultations required by the Endangered Species Act, Clean Water Act, National Historic Preservation Act, and any other applicable law or regulation.

In accordance with the Engle Act of 1958, and the Federal Lands Policy and Management Act of 1976, the DoN is required to file an application with the BLM requesting the Secretary of the Interior process a proposed legislative withdrawal and reservation of public land to continue military training exercises at the CMAGR. The proposed alternatives would withdraw at least 222,041 but not more than 242,058 acres of public land. As a result of the proposed boundary restructuring, approximately 15,347 acres of public land not in the existing 226,711 acre withdrawal would be withdrawn. The restructured boundary would offer the best opportunities to define and manage a secure boundary for the CMAGR, safeguard public use of adjacent public land, and consolidate holdings for more efficient environmental stewardship. The public land would be withdrawn from all forms of appropriation under the public land laws, including surface entry, mining, mineral leasing, and the Materials Act of 1947.

L-EIS Schedule: This notice is the first phase of the L-EIS process and announces the 90-day public comment period and public scoping meetings to identify community concerns and local issues that should be addressed in the L-EIS. The next phase occurs when a Notice of Availability (NOA) is published in the Federal Register and local media to publicly announce the release of the Draft L-EIS. A minimum 45-day public comment period for the Draft L-EIS will commence upon publication of the NOA in the Federal Register. The USMC will consider and respond to all comments received on the Draft L-EIS when preparing the Final L-EIS. After publication of the Draft L-EIS, one or more public hearings will be held, and public notice will be given regarding the time and place of the hearing(s). The Draft L-EIS will be available for public and agency review and comment before the public hearing(s).

Dated: September 17, 2010.
D.J. Werner,
Lieutenant Commander, Office of the Judge Advocate General, U.S. Navy, Federal Register Liaison Officer.

[FR Doc. 2010-23984 Filed 9-23-10; 8:45 am]

BILLING CODE 3810-FF-P